INTERNATIONAL TRADE COMMISSION

[USITC SE-10-031]

Sunshine Act Meeting

AGENCY HOLDING THE MEETING: United States International Trade Commission.

TIME AND DATE: November 30, 2010 at 11 a.m.

PLACE: Room 101, 500 E Street, SW., Washington, DC 20436, Telephone: (202) 205-2000.

STATUS: Open to the public.

MATTERS TO BE CONSIDERED:

1. Agendas for future meetings: None.

2. Minutes.

3. Ratification List.

4. Vote in Inv. No. 731-TA-1058 (Review) (Wooden Bedroom Furniture from China). The Commission is currently scheduled to transmit its determination and Commissioners' opinions to the Secretary of Commerce on or before December 14, 2010.

5. Outstanding action jackets: None.

In accordance with Commission policy, subject matter listed above, not disposed of at the scheduled meeting, may be carried over to the agenda of the following meeting.

By order of the Commission.
Issued: November 19, 2010.
William R. Bishop,
Hearings and Meetings Coordinator.

[FR Doc. 2010-29665 Filed 11-19-10; 4:15 pm]

BILLING CODE 7020-02-P